ENVIRONMENTAL PROTECTION AGENCY

[FRL-8260-8]

Notice of Public Meeting on EPA Geospatial Data Access Project

AGENCY: Environmental Protection Agency.

ACTION: Notice of public meeting.

SUMMARY: Environmental Protection Agency (EPA) will hold a public meeting to solicit comments and feedback on the Agency's project to share and publish information on locations of environmental interest through commercial Internet services. This project is designed to increase the awareness and availability of environmental information to the public. The project includes a pilot to publish environmental data from the Superfund program (National Priorities List) with the project then being expanded to other U.S. EPA data resources.

DATES: The meeting will take place on Wednesday, January 17, 2007 from 1 p.m. to 3:30 p.m. (EST).

ADDRESSES: The meeting will be held at EPA's Offices at 1 Potomac Yard, First Floor Conference Center, 2777 Crystal Drive, Arlington, VA 22202.

FOR FURTHER INFORMATION CONTACT: Dalroy Ward (Mail Stop 2843T), Environmental Protection Agency, 1200 Pennsylvania Avenue, NW., Washington, DC 20460; telephone (202) 566-0381, e-mail: ward.dalroy@epa.gov.

SUPPLEMENTARY INFORMATION: EPA is initiating a project to foster collaboration with commercial publishers of geospatial data content to improve accessibility and increase public awareness of EPA's environmental data holdings. First steps consist of publishing environmental data from the Superfund program in XML format and made available to any interested parties. The data available through the project will be expanded after its initial release and may include data from other EPA programs. EPA's goal is to establish a single venue for providing and maintaining access to its environmental content that can be utilized by any commercial service provider with an interest in doing so.

Background

This meeting is informational and is an opportunity for EPA to present the methodology it will be following in making the data available and provide an opportunity for interested parties to ask questions to aid in their understanding.

Agenda

1 Welcome and EPA Introductions

1:15 Presentation on EPA's Geospatial Data Access Project

2 Presentation on the XML Schema and Tag Definitions

2:30 Questions and Answers

During the presentation attendees will have the opportunity to submit written questions. EPA will answer all questions that can be answered that are germane to the meeting and for which there is time available in the schedule. Some questions may require additional materials to be prepared and such questions will be deferred until after the meeting. Relevant questions not answered at the meeting will be answered in writing with the answers made available on the Geospatial Data Access Project Web site.

How can I participate in the meeting?

This meeting will be open to the public and seating is available on a first-come basis. Persons interested in attending do not need to register in advance of the meeting. To request accommodation of a disability, please contact the person listed under FOR FURTHER INFORMATION CONTACT, preferably at least 10 days prior to the meeting, to give EPA as much time as possible to process your request.

Dated: December 11, 2006.
Linda A. Travers,
Acting Assistant Administrator and Chief Information, Officer, Office of Environmental Information.

[FR Doc. E6-22050 Filed 12-22-06; 8:45 am]

BILLING CODE 6560-50-P